DEPARTMENT OF AGRICULTURE

Animal and Plant Health Inspection Service

[Docket No. APHIS-2010-0103]

Dow AgroScience LLC; Availability of Petition, Plant Pest Risk Assessment, and Environmental Assessment for Determination of Nonregulated Status of Corn Genetically Engineered for Herbicide Tolerance

AGENCY: Animal and Plant Health Inspection Service, USDA.

ACTION: Notice; extension of comment period.

SUMMARY: We are extending the comment period for a petition received from Dow AgroScience LLC seeking a determination of nonregulated status of corn designated as DAS-40278-9, which has been genetically engineered for increased resistance to broadleaf herbicides in the phenoxy auxin group (such as the herbicide 2,4-D) and resistance to grass herbicides in the aryloxyphenoxypropionate acetyl coenzyme A carboxylase inhibitor group (such as quizalofop herbicides). This action will allow interested persons additional time to prepare and submit comments on the petition, our plant pest risk assessment, and our draft environmental assessment for the proposed determination of nonregulated status.

DATES: We will consider all comments that we receive on or before April 27, 2012.

ADDRESSES: You may submit comments by either of the following methods:

• Federal eRulemaking Portal: Go to http://www.regulations.gov/#!documentDetail;D=APHIS-2010-0103-0001.

• Postal Mail/Commercial Delivery: Send your comment to Docket No. APHIS-2010-0103, Regulatory Analysis and Development, PPD, APHIS, Station 3A-03.8, 4700 River Road Unit 118, Riverdale, MD 20737-1238.

Supporting documents and any comments we receive on this docket may be viewed at http://www.regulations.gov/#!docketDetail;D=APHIS-2010-0103 or in our reading room, which is located in room 1141 of the USDA South Building, 14th Street and Independence Avenue SW., Washington, DC. Normal reading room hours are 8 a.m. to 4:30 p.m., Monday through Friday, except holidays. To be sure someone is there to help you, please call (202) 690-2817 before coming.

The petition, draft environmental assessment, and plant pest risk assessment are also available on the APHIS Web site at http://www.aphis.usda.gov/brs/aphisdocs/09_23301p.pdf, http://www.aphis.usda.gov/brs/aphisdocs/09_23301p_dea.pdf, and http://www.aphis.usda.gov/brs/aphisdocs/09_23301p_dpra.pdf.

FOR FURTHER INFORMATION CONTACT: Mr. Evan Chestnut, Policy Analyst, Biotechnology Regulatory Services, APHIS, 4700 River Road Unit 147, Riverdale, MD 20737-1236; (301) 851-3910, email: evan.a.chestnut@aphis.usda.gov. To obtain copies of the petition, draft environmental assessment, or plant pest risk assessment, contact Ms. Cindy Eck at (301) 851-3892, email: cynthia.a.eck@aphis.usda.gov.

SUPPLEMENTARY INFORMATION: On December 27, 2011, we published in the Federal Register (76 FR 80872-80873, Docket No. APHIS-2010-0103) a notice ¹ advising the public that the Animal and Plant Health Inspection Service (APHIS) has received a petition from Dow AgroScience LLC seeking a determination of nonregulated status of corn (Zea mays) designated as event DAS-40278-9, which has been genetically engineered for increased resistance to broadleaf herbicides in the phenoxy auxin group (such as the herbicide 2,4-D) and resistance to grass herbicides in the aryloxyphenoxypropionate acetyl coenzyme A carboxylase inhibitor group (such as quizalofop herbicides).

¹ To view the notice, supporting documents, and any comments we have received, go to http://www.regulations.gov/#!docketDetail;D=APHIS-2010-0103.

Comments on the Dow petition, our plant pest risk assessment, and our draft environmental assessment for the proposed determination of nonregulated status were required to be received on or before February 27, 2012. We are extending the comment period on Docket No. APHIS-2010-0103 for an additional 60 days, ending April 27, 2012. This action will allow interested persons additional time to prepare and submit comments on the Dow petition, our plant pest risk assessment, and our draft environmental assessment for the proposed determination of nonregulated status.

Authority: 7 U.S.C. 7701-7772 and 7781-7786; 31 U.S.C. 9701; 7 CFR 2.22, 2.80, and 371.3.

Done in Washington, DC, this 15th day of February 2012.
Kevin Shea,
Acting Administrator, Animal and Plant Health Inspection Service.

[FR Doc. 2012-4081 Filed 2-21-12; 8:45 am]

BILLING CODE 3410-34-P